ENVIRONMENTAL PROTECTION AGENCY

[Docket ID Numbers EPA-HQ-OECA-2006-0411 to 0418, 0420, 0421, 0425 to 0427, 0430 to 0434, 0437 to 0445, and 0447 to 0451; FRL-8185-7]

Agency Information Collection Activities: Request for Comments on Thirty-Two Proposed Information Collection Requests (ICRs)

AGENCY: Environmental Protection Agency (EPA).

ACTION: Notice.

SUMMARY: In compliance with the Paperwork Reduction Act (44 U.S.C. 3501 et seq.), this document announces that EPA is planning to submit the following 32 existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before August 21, 2006.

ADDRESSES: Comments may be submitted electronically, by mail, or through hand delivery/courier service. Follow the detailed instructions as provided under SUPPLEMENTARY INFORMATION, section A.

FOR FURTHER INFORMATION CONTACT: The contact individuals for each ICR are listed under SUPPLEMENTARY INFORMATION, section II.

SUPPLEMENTARY INFORMATION:

A. How Can I Access the Docket and/or Submit Comments?

1. Docket Access Instructions

EPA has established a public docket for the ICRs listed in the SUPPLEMENTARY INFORMATION, section II. B. The docket is available for online viewing at http://www.regulations.gov, or in person viewing at the Enforcement and Compliance Docket and Information Center (ECDIC), in the EPA Docket Center (EPA/DC), EPA West, Room B102, 1301 Constitution Avenue, NW., Washington, DC. The EPA/DC Public Reading Room is open from 8 a.m. to 4:30 p.m., Monday through Friday, excluding legal holidays. The telephone number for the Reading Room is (202) 566-1744, and the telephone number for the Enforcement and Compliance Docket and Information Center (ECDIC) docket is (202) 566-1752.

Use http://www.regulations.gov to obtain a copy of the draft collection of information, submit or view public comments, access the index listing of the contents of the docket, and to access those documents in the public docket that are available electronically. When in the system, select “search,” then key in the docket ID number identified in this document.

2. Instructions for Submitting Comments

Submit your comments by one of the following methods:

a. Electronic Submission: Access http://www.regulations.gov and follow the on-line instructions for submitting comments.

b. E-mail: docket.oeca@epa.gov

c. Fax: (202) 566-1511

d. Mail: Enforcement and Compliance Docket and Information Center (ECDIC), Environmental Protection Agency, EPA Docket Center (EPA/DC), Mailcode: 2201T, 1200 Pennsylvania Avenue, NW., Washington, DC 20460.

e. Hand Delivery: Enforcement and Compliance Docket and Information Center (ECDIC), Environmental Protection Agency, EPA Docket Center (EPA/DC), EPA West, Room B102, 1301 Constitution Avenue, NW., Washington, DC. The EPA Docket Center is open from 8:30 a.m. to 4:30 p.m., Monday through Friday, excluding legal holidays. Deliveries are only accepted during the Docket Center's normal hours of operation, and special arrangements should be made for deliveries of boxed information.

Direct your comments to the specific docket listed in SUPPLEMENTARY INFORMATION, section II. B, and reference the OMB Control Number for the ICR. It is EPA's policy is that all comments received will be included in the public docket without change and may be made available online at: http://www.regulations.gov, including any personal information provided, unless the comment includes information claimed to be Confidential Business Information (CBI) or other information whose disclosure is restricted by statute. Do not submit information that you consider to be CBI or otherwise protected through www.regulations.gov or e-mail. The Web site, http://www.regulations.gov, is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

B. What Information Is EPA Particularly Interested In?

Pursuant to section 3506(c)(2)(A) of the Paperwork Reduction Act (PRA), EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

C. What Should I Consider When I Prepare My Comments for EPA?

You may find the following suggestions helpful for preparing comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

ICRs To Be Renewed

A. For All ICRs

The Agency computed the burden for each of the recordkeeping and reporting requirements applicable to the industry for the currently approved ICRs listed in this notice. Where applicable, the Agency identified specific tasks and made assumptions, while being consistent with the concept of the PRA.

Burden means the total time, effort, or financial resources expended by persons to generate, maintain, retain, or disclose or provide information to or for a Federal agency. This includes the time needed to review instructions to; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The listed ICRs address Clean Air Act information collection requirements in standards (i.e., regulations) that have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis as required by the Clean Air Act.

An Agency may not conduct or sponsor, and a person is not required to respond to, a collection of information, unless the Agency displays a currently valid OMB control number. The OMB control numbers for EPA's regulations under Title 40 of the Code of Federal Regulations are published in the Federal Register, or on the related collection instrument or form. The display of OMB control numbers for certain EPA regulations is consolidated at 40 CFR part 9.

B. What Information Collection Activity or ICR Does This Apply to?

In compliance with the Paperwork Reduction Act (44 U.S.C. 3501 et seq.), this notice announces that EPA is planning to submit the following 32 existing, approved, continuing Information Collection Requests (ICR) to the Office of Management and Budget (OMB):

(1) Docket ID Number: EPA-HQ-OECA-2006-0452.

Title: NESHAP for Miscellaneous Organic Chemical Manufacturing (40 CFR Part 63, Subpart FFFF).

ICR Numbers: EPA ICR Number 1969.03, OMB Control Number 2060-0533.

ICR Status: This ICR is scheduled to expire on October 31, 2006.

(2) Docket ID Number: EPA-HQ-OECA-2006-0441.

Title: NESHAP for Perchloroethylene Dry Cleaning Facilities (40 CFR Part 63, Subpart M).

ICR Numbers: EPA ICR Number 1415.07, OMB Control Number 2060-0234.

ICR Status: This ICR is scheduled to expire on October 31, 2006.

(3) Docket ID Number: EPA-HQ-OECA-2006-0439.

Title: NSPS for Phosphate Fertilizer Industry (40 CFR Part 60, Subparts T, U, V, W and X).

ICR Numbers: EPA ICR Number 1061.10, OMB Control Number 2060-0037.

ICR Status: This ICR is scheduled to expire on November 30, 2006.

(4) Docket ID Number: EPA-HQ-OECA-2006-0448.

Title: NSPS for Steel Plants: Electric Arc Furnace and Argon Oxygen Decarbonization Vessels (40 CFR Part 60, Subparts AA and AAa).

ICR Numbers: EPA ICR Number 1060.14, OMB Control Number 2060-0038.

ICR Status: This ICR is scheduled to expire on November 30, 2006.

(5) Docket ID Number: EPA-HQ-OECA-2006-0425.

Title: NSPS for Industrial/Commercial/Institutional Steam Generating Units (40 CFR Part 60, Subpart Db).

ICR Numbers: EPA ICR Number 1088.11, OMB Control Number 2060-0072.

ICR Status: This ICR is scheduled to expire on November 30, 2006.

(6) Docket ID Number: EPA-HQ-OECA-2006-0426.

Title: NSPS for Fossil Fuel Fired Steam Generating Units (40 CFR Part 60, Subpart D).

ICR Numbers: EPA ICR Number 1052.08, OMB Control Number 2060-0026.

ICR Status: This ICR is scheduled to expire on November 30, 2006.

(7) Docket ID Number: EPA-HQ-OECA-2006-0417.

Title: NSPS for Surfacing Coating of Plastic Parts for Business Machines (40 CFR Part 60, Subpart TTT).

ICR Numbers: EPA ICR Number 1093.08, OMB Control Number 2060-0162.

ICR Status: This ICR is scheduled to expire on November 30, 2006.

(8) Docket ID Number: EPA-HQ-OECA-2006-0440.

Title: Federal Emission Guidelines for Existing Municipal Solid Waste Landfills (40 CFR Part 62, Subpart GGG).

ICR Numbers: EPA ICR Number 1893.04, OMB Control Number 2060-0430.

ICR Status: This ICR is scheduled to expire on November 30, 2006.

(9) Docket ID Number: EPA-HQ-OECA-2006-0427.

Title: NSPS for Nonmetallic Mineral Processing (40 CFR Part 60, Subpart OOO).

ICR Numbers: EPA ICR Number 1084.08, OMB Control Number 2060-0050.

ICR Status: This ICR is scheduled to expire on November 30, 2006.

(10) Docket ID Number: EPA-HQ-OECA-2006-0413.

Title: NSPS for Secondary Lead Smelters (40 CFR Part 60, Subpart L).

ICR Numbers: EPA ICR Number 1128.08, OMB Control Number 2060-0080.

ICR Status: This ICR is scheduled to expire on November 30, 2006.

(11) Docket ID Number: EPA-HQ-OECA-2006-0445.

Title: NESHAP Site Remediation (40 CFR Part 63, Subpart GGGGG).

ICR Numbers: EPA ICR Number 2062.03, OMB Control Number 2060-0534.

ICR Status: This ICR is scheduled to expire on December 31, 2006.

(12) Docket ID Number: EPA-HQ-OECA-2006-0450.

Title: NESHAP for the Secondary Lead Industry (40 CFR Part 63, Subpart X).

ICR Numbers: EPA ICR Number 1686.06, OMB Control Number 2060-0296.

ICR Status: This ICR is scheduled to expire on December 31, 2006.

(13) Docket ID Number: EPA-HQ-OECA-2006-0421.

Title: NESHAP for Mercury Cell Chlor-Alkali Plants (40 CFR Part 63, Subpart IIIII).

ICR Numbers: EPA ICR Number 2046.03, OMB Control Number 2060-0542.

ICR Status: This ICR is scheduled to expire on January 31, 2007.

(14) Docket ID Number: EPA-HQ-OECA-2006-0447.

Title: NESHAP for Iron and Steel Foundries (40 CFR Part 63, Subpart EEEEE).

ICR Numbers: EPA ICR Number 2096.03, OMB Control Number 2060-0543.

ICR Status: This ICR is scheduled to expire on January 31, 2007.

(15) Docket ID Number: EPA-HQ-OECA-2006-0431.

Title: NESHAP for Lime Manufacturing (40 CFR Part 63, Subpart AAAAA).

ICR Numbers: EPA ICR Number 2072.03, OMB Control Number 2060-0544.

ICR Status: This ICR is scheduled to expire on January 31, 2007.

(16) Docket ID Number: EPA-HQ-OECA-2006-0432.

Title: NESHAP for Primary Magnesium Refining (40 CFR Part 63, Subpart TTTTT).

ICR Numbers: EPA ICR Number 2098.03, OMB Control Number 2060-0536.

ICR Status: This ICR is scheduled to expire on January 31, 2007.

(17) Docket ID Number: EPA-HQ-OECA-2006-0433.

Title: NESHAP for Plastic Parts and Products Surface Coating (40 CFR Part 63, Subpart PPPP).

ICR Numbers: EPA ICR Number 2044.03, OMB Control Number 2060-0537.

ICR Status: This ICR is scheduled to expire on January 31, 2007.

(18) Docket ID Number: EPA-HQ-OECA-2006-0430.

Title: NESHAP for Taconite Iron Ore Processing (40 CFR Part 63, Subpart RRRRR).

ICR Numbers: EPA ICR Number 2050.03, OMB Control Number 2060-0538.

ICR Status: This ICR is scheduled to expire on January 31, 2007.

(19) Docket ID Number: EPA-HQ-OECA-2006-0438.

Title: NESHAP for Printing and Publishing Industry (40 CFR Part 63, Subpart KK).

ICR Numbers: EPA ICR Number 1739.05, OMB Control Number 2060-0335.

ICR Status: This ICR is scheduled to expire on January 31, 2007.

(20) Docket ID Number: EPA-HQ-OECA-2006-0412.

Title: NSPS for Ammonium Sulfate Manufacturing Plants 40 CFR Part 60, Subpart PP).

ICR Numbers: EPA ICR Number 1066.06, OMB Control Number 2060-0032.

ICR Status: This ICR is scheduled to expire on February 28, 2007.

(21) Docket ID Number: EPA-HQ-OECA-2006-0414.

Title: NSPS for Pressure Sensitive Tape and Label Surface Coating Operations (40 CFR Part 60, Subpart RR).

ICR Numbers: EPA ICR Number 0658.09, OMB Control Number 2060-0004.

ICR Status: This ICR is scheduled to expire on February 28, 2007.

(22) Docket ID Number: EPA-HQ-OECA-2006-0416.

Title: NSPS for Automobile and Light Duty Truck Surface Coating Operations (40 CFR Part 60, Subpart MM).

ICR Numbers: EPA ICR Number 1064.11, OMB Control Number 2060-0034.

ICR Status: This ICR is scheduled to expire on February 28, 2007.

(23) Docket ID Number: EPA-HQ-OECA-2006-0411.

Title: NSPS for Flexible Vinyl and Urethane Coating and Printing (40 CFR Part 60, Subpart FFF).

ICR Numbers: EPA ICR Number 1157.08, OMB Control Number 2060-0073.

ICR Status: This ICR is scheduled to expire on February 28, 2007.

(24) Docket ID Number: EPA-HQ-OECA-2006-0420.

Title: NSPS for Wool Fiberglass Insulation Manufacturing Plants (40 CFR Part 60, Subpart PPP and 40 CFR Part 63, Subpart NNN).

ICR Numbers: EPA ICR Number 1160.08, OMB Control Number 2060-0114.

ICR Status: This ICR is scheduled to expire on February 28, 2007.

(25) Docket ID Number: EPA-HQ-OECA-2006-0415.

Title: NSPS for Lead Acid Battery Manufacturing (40 CFR Part 60, Subpart KK).

ICR Numbers: EPA ICR Number 1072.08, OMB Control Number 2060-0081.

ICR Status: This ICR is scheduled to expire on March 31, 2007.

(26) Docket ID Number: EPA-HQ-OECA-2006-0449.

Title: NSPS for Storage Vessels for Petroleum Liquids for Which Construction, Reconstruction or Modification Commenced After June 11, 1973 prior to July 23, 1984 (40 CFR Part 60, Subpart Ka).

ICR Numbers: EPA ICR Number 1797.04, OMB Control Number 2060-0442.

ICR Status: This ICR is scheduled to expire on March 31, 2007.

(27) Docket ID Number: EPA-HQ-OECA-2006-0442.

Title: NSPS for Commercial and Industrial Solid Waste Incineration Units (40 CFR Part 60, Subpart CCCC)

ICR Numbers: EPA ICR Number 1926.04, OMB Control Number 2060-0450.

ICR Status: This ICR is scheduled to expire on March 31, 2007.

(28) Docket ID Number: EPA-HQ-OECA-2006-0418.

Title: NESHAP for Miscellaneous Coating Manufacturing (40 CFR Part 63, Subpart EEEE).

ICR Numbers: EPA ICR Number 2115.02, OMB Control Number 2060-0535.

ICR Status: This ICR is scheduled to expire on April 30, 2007.

(29) Docket ID Number: EPA-HQ-OECA-2006-0451.

Title: NESHAP for Organic Liquids Distribution (40 CFR Part 63, Subpart EEEE).

ICR Numbers: EPA ICR Number 1963.03, OMB Control Number 2060-0539.

ICR Status: This ICR is scheduled to expire on April 30, 2007.

(30) Docket ID Number: EPA-HQ-OECA-2006-0444.

Title: Emission Guidelines for Commercial and Industrial Solid Waste Incineration Units (40 CFR Part 60, Subpart DDDD).

ICR Numbers: EPA ICR Number 1927.04, OMB Control Number 2060-0451.

ICR Status: This ICR is scheduled to expire on April 30, 2007.

(31) Docket ID Number: EPA-HQ-OECA-2006-0443.

Title: NESHAP for Halogenated Solvent Cleaners/Halogenated Hazardous Air Pollutants (40 CFR Part 63, Subpart T).

ICR Numbers: EPA ICR Number 1652.06, OMB Control Number 2060-0273.

ICR Status: This ICR is scheduled to expire on April 30, 2007.

(32) Docket ID Number: EPA-HQ-OECA-2006-0437.

Title: NSPS for Nitric Acid Plants (40 CFR Part 60, Subpart G).

ICR Numbers: EPA ICR Number 1056.09, OMB Control Number 2060-0019.

ICR Status: This ICR is scheduled to expire on April 30, 2007.

C. Contact Individuals for ICRs

(1) NESHAP for Miscellaneous Organic Chemical Manufacturing (40 CFR Part 63, Subpart FFFF); Marcia B. Mia of the Office of Compliance at 202-564-7042 (phone) or 202-564-0050 (fax), or via e-mail to: mia.marcia@epa.gov; EPA ICR Number 1969.03; OMB Control Number 2060-0533; expiration date October 31, 2006.

(2) NESHAP for Perchloroethylene Dry Cleaning Facilities (40 CFR Part 63, Subpart M); Learia Williams of the Office of Compliance at (202) 564-4113 or via e-mail to: williams.learia@epa.gov; EPA ICR Number 1415.07; OMB Control Number 2060-0234; expiration date October 31, 2006.

(3) NSPS for Phosphate Fertilizer Industry (40 CFR Part 60, Subparts T, U, V, W and X); Learia Williams of the Office of Compliance at (202) 564-4113 or via e-mail to: williams.learia@epa.gov; EPA ICR Number 1061.10; OMB Control Number 2060-0037; expiration date November 30, 2006.

(4) NSPS for Steel Plants: Electric Arc Furnace and Argon Oxygen Decarbonization Vessels (40 CFR Part 60, Subparts AA and AAa); Maria Malave of the Office of Compliance at (202) 564-7027 or via e-mail to: malave.maria@epa.gov; EPA ICR Number 1060.14; OMB Control Number 2060-0038; expiration date November 30, 2006.

(5) NSPS for Industrial/Commercial/Institutional Steam Generating Units (40 CFR Part 60, Subpart Db); Gregory Fried of the Office of Compliance at (202) 564-7016 or via e-mail to: fried.gregory@epa.gov; EPA ICR Number 1088.11; OMB Control Number 2060-0072; expiration date November 30, 2006.

(6) NSPS for Fossil Fuel Fired Steam Generating Units (40 CFR Part 60, Subpart D); Gregory Fried of the Office of Compliance at (202) 564-7016 or via e-mail to: fried.gregory@epa.gov; EPA ICR Number 1052.08; OMB Control Number 2060-0026; expiration date November 30, 2006.

(7) NSPS for Surfacing Coating of Plastic Parts for Business Machines (40 CFR Part 60, Subpart TTT); Robert C. Marshall, Jr. of the Office of Compliance at (202) 564-7021 or via e-mail to: marshall.robert@epa.gov; EPA ICR Number 1093.08; OMB Control Number 2060-0162; expiration date November 30, 2006.

(8) Federal Emission Guidelines for Existing Municipal Solid Waste Landfills (40 CFR Part 62, Subpart GGG); Learia Williams of the Office of Compliance at (202) 564-4113 or via e-mail to: williams.learia@epa.gov; EPA ICR Number 1893.04; OMB Control Number 2060-0430; expiration date November 30, 2006.

(9) NSPS for Nonmetallic Mineral Processing (40 CFR Part 60, Subpart OOO); Gregory Fried of the Office of Compliance at (202) 564-7016 or via e-mail to: fried.gregory@epa.gov; EPA ICR Number 1084.08; OMB Control Number 2060-0050; expiration date November 30, 2006.

(10) NSPS for Secondary Lead Smelters (40 CFR Part 60, Subpart L); Robert C. Marshall, Jr. of the Office of Compliance at (202) 564-7021 or via e-mail to: marshall.robert@epa.gov; EPA ICR Number 1128.08; OMB Control Number 2060-0080; expiration date November 30, 2006.

(11) NESHAP Site Remediation (40 CFR Part 63, Subpart GGGGG); Learia Williams of the Office of Compliance at (202) 564-4113 or via e-mail to: williams.learia@epa.gov; EPA ICR Number 2062.03; OMB Control Number 2060-0534; expiration date December 31, 2006.

(12) NESHAP for the Secondary Lead Industry (40 CFR Part 63, Subpart X); Maria Malave of the Office of Compliance at (202) 564-7027 or via e-mail to: malave.maria@epa.gov; EPA ICR Number 1686.06; OMB Control Number 2060-0296; expiration date December 31, 2006.

(13) NESHAP for Mercury Cell Chlor-Alkali Plants (40 CFR Part 63, Subpart IIIII); Robert C. Marshall, Jr. of the Office of Compliance at (202) 564-7021 or via e-mail to: marshall.robert@epa.gov; EPA ICR Number 2046.03; OMB Control Number 2060-0542; expiration date January 31, 2007.

(14) NESHAP for Iron and Steel Foundries (40 CFR Part 63, Subpart EEEEE); Maria Malave of the Office of Compliance at (202) 564-7027 or via e-mail to: malave.maria@epa.gov; EPA ICR Number 2096.03; OMB Control Number 2060-0543; expiration date January 31, 2007.

(15) NESHAP for Lime Manufacturing (40 CFR Part 63, Subpart AAAAA); Len Lazarus of the Office of Compliance at (202) 564-6369 or via e-mail to: lazarus.leonard@epa.gov; EPA ICR Number 2072.03; OMB Control Number 2060-0544; expiration date January 31, 2007.

(16) NESHAP for Primary Magnesium Refining (40 CFR Part 63, Subpart TTTTT); Len Lazarus of the Office of Compliance at (202) 564-6369 or via e-mail to: lazarus.leonard@epa.gov; EPA ICR Number 2098.03; OMB Control Number 2060-0536; expiration date January 31, 2007.

(17) NESHAP for Plastic Parts and Products Surface Coating (40 CFR Part 63, Subpart PPPP); Len Lazarus of the Office of Compliance at (202) 564-6369 or via e-mail to: lazarus.leonard@epa.gov; EPA ICR Number 2044.03; OMB Control Number 2060-0537; expiration date January 31, 2007.

(18) NESHAP for Taconite Iron Ore Processing (40 CFR Part 63, Subpart RRRRR); Len Lazarus of the Office of Compliance at (202) 564-6369 or via e-mail to: lazarus.leonard@epa.gov; EPA ICR Number 2050.03; OMB Control Number 2060-0538; expiration date January 31, 2007.

(19) NESHAP for Printing and Publishing Industry (40 CFR Part 63, Subpart KK); Learia Williams of the Office of Compliance at (202) 564-4113 or via e-mail to: williams.learia@epa.gov; EPA ICR Number 1739.05; OMB Control Number 2060-0335; expiration date January 31, 2007.

(20) NSPS for Ammonium Sulfate Manufacturing Plants 40 CFR Part 60, Subpart PP); Robert C. Marshall, Jr. of the Office of Compliance at (202) 564-7021 or via e-mail to: marshall.robert@epa.gov; EPA ICR Number 1066.06; OMB Control Number 2060-0032; expiration date February 28, 2007.

(21) NSPS for Pressure Sensitive Tape and Label Surface Coating Operations (40 CFR Part 60, Subpart RR); Robert C. Marshall, Jr. of the Office of Compliance at (202) 564-7021 or via e-mail to: marshall.robert@epa.gov; EPA ICR Number 0658.09; OMB Control Number 2060-0004; expiration date February 28, 2007.

(22) NSPS for Automobile and Light Duty Truck Surface Coating Operations (40 CFR Part 60, Subpart MM); Robert C. Marshall, Jr. of the Office of Compliance at (202) 564-7021 or via e-mail to: marshall.robert@epa.gov; EPA ICR Number 1064.11; OMB Control Number 2060-0034; expiration date February 28, 2007.

(23) NSPS for Flexible Vinyl and Urethane Coating and Printing (40 CFR Part 60, Subpart FFF); Robert C. Marshall, Jr. of the Office of Compliance at (202) 564-7021 or via e-mail to: marshall.robert@epa.gov; EPA ICR Number 1157.08; OMB Control Number 2060-0073; expiration date February 28, 2007.

(24) NSPS for Wool Fiberglass Insulation Manufacturing Plants (40 CFR Part 60, Subpart PPP and 40 CFR Part 63, Subpart NNN); Robert C. Marshall, Jr. of the Office of Compliance at (202) 564-7021 or via e-mail to: marshall.robert@epa.gov; EPA ICR Number 1160.08; OMB Control Number 2060-0114; expiration date February 28, 2007.

(25) NSPS for Lead Acid Battery Manufacturing (40 CFR Part 60, Subpart KK); Robert C. Marshall, Jr. of the Office of Compliance at (202) 564-7021 or via e-mail to: marshall.robert@epa.gov; EPA ICR Number 1072.08; OMB Control Number 2060-0081; expiration date March 31, 2007.

(26) NSPS for Storage Vessels for Petroleum Liquids for Which Construction, Reconstruction or Modification Commenced After June 11, 1973 prior to July 23, 1984 (40 CFR Part 60, Subpart Ka); Maria Malave of the Office of Compliance at (202) 564-7027 or via e-mail to: malave.maria@epa.gov; EPA ICR Number 1797.04; OMB Control Number 2060-0442; expiration date March 31, 2007.

(27) NSPS for Commercial and Industrial Solid Waste Incineration Units (40 CFR Part 60, Subpart CCCC); Learia Williams of the Office of Compliance at (202) 564-4113 or via e-mail to: williams.learia@epa.gov; EPA ICR Number 1926.04; OMB Control Number 2060-0450; expiration date March 31, 2007.

(28) NESHAP for Miscellaneous Coating Manufacturing (40 CFR Part 63, Subpart EEEE); Robert C. Marshall, Jr. of the Office of Compliance at (202) 564-7021 or via e-mail to: marshall.robert@epa.gov; EPA ICR Number 2115.02; OMB Control Number 2060-0535; expiration date April 30, 2007.

(29) NESHAP for Organic Liquids Distribution (40 CFR Part 63, Subpart EEEE); Marcia B. Mia of the Office of Compliance at 202-564-7042 (phone) or 202-564-0050 (fax), or via e-mail to: mia.marcia@epa.gov; EPA ICR Number 1963.03, OMB Control Number 2060-0539; expiration date April 30, 2007.

(30) Emission Guidelines for Commercial and Industrial Solid Waste Incineration Units (40 CFR Part 60, Subpart DDDD); Learia Williams of the Office of Compliance at (202) 564-4113 or via e-mail to: williams.learia@epa.gov; EPA ICR Number 1927.04; OMB Control Number 2060-0451; expiration date April 30, 2007.

(31) NESHAP for Halogenated Solvent Cleaners/Halogenated Hazardous Air Pollutants (40 CFR Part 63, Subpart T); Learia Williams of the Office of Compliance at (202) 564-4113 or via e-mail to: williams.learia@epa.gov; EPA ICR Number 1652.06; OMB Control Number 2060-0273; expiration date April 30, 2007.

(32) NSPS for Nitric Acid Plants (40 CFR Part 60, Subpart G); Learia Williams of the Office of Compliance at (202) 564-4113 or via e-mail to: williams.learia@epa.gov; EPA ICR Number 1056.09; OMB Control Number 2060-0019; expiration date April 30, 2007.

D. Information for Individual ICRs

(1) NESHAP for Miscellaneous Organic Chemical Manufacturing (40 CFR Part 63, Subpart FFFF); EPA ICR Number 1969.03; OMB Control Number 2060-0533; expiration date October 31, 2006.

Affected Entities: Entities potentially affected by this action are owners or operators of new and existing facilities that manufacture a miscellaneous organic chemical and are located at, or are part of, major sources of hazardous air pollutant (HAP) emissions.

Abstract: The National Emissions Standards for Hazardous Air Pollutants (NESHAP) for Miscellaneous Organic Chemical Manufacturing (40 CFR Part 63, Subpart FFFF) were promulgated on November 10, 2003.

The affected entities are subject to the General Provisions of NESHAP at 40 CFR part 63, subpart A and any changes, or additions to the General Provisions specified at 40 CFR part 63, subpart FFFF.

Respondents/Affected Entities: Potential respondents are owners or operators of any facilities that engage in the manufacture of miscellaneous organic chemicals and are classified as major sources under section 112 of the CAA.

Burden Statement: The annual public reporting and recordkeeping burden for this collection of information is estimated to average approximately 57 hours per response.

Estimated Number of Respondents: 251.

Frequency of Response: Initially and semiannually.

Estimated Total Annual Hour Burden: 17,745.

Estimated Total Annual Cost: $348,000 which is comprised of annualized capital/startup costs of $256,000 and O&M costs of $92,000.

(2) NESHAP for Perchloroethylene Dry Cleaning Facilities (40 CFR Part 63, Subpart M), Docket ID Number EPA-HQ-OECA-2006-0441 EPA ICR Number 1415.07, OMB Control Number 2060-0234, and expiration date October 31, 2006.

Affected Entities: Entities potentially affected by this action are owners or operators of dry cleaning facilities using perchloroethylene as a solvent.

Abstract: The National Emission Standards for Hazardous Air Pollutants (NESHAP) for Perchloroethylene Dry Cleaning Facilities (40 CFR Part 63, Subpart M) were proposed on December 9, 1991, and promulgated on September 22, 1993.

The affected entities are subject to the General Provisions of NESHAP at 40 CFR part 63, subpart A and any changes, or additions to the General Provisions specified at 40 CFR part 63, subpart M.

Burden Statement: The annual public reporting and recordkeeping burden for this collection of information is estimated to average approximately 42 hours per response.

Respondents/Affected Entities: Perchloroethylene dry cleaning facilities.

Estimated Number of Respondents: 34,240.

Frequency of Response: On occasion.

Estimated Total Annual Hour Burden: 1,537,784 .

Estimated Total Annual Cost: $53,000 which is comprised of no annualized capital/startup costs and O&M costs of $53,000.

(3) NSPS for Phosphate Fertilizer Industry (40 CFR Part 60, Subparts T, U, V, W and X), Docket ID Number EPA-HQ-OECA-2006-0439, EPA ICR Number 1061.10, OMB Control Number 2060-0037, and expiration date November 30, 2006.

Affected Entities: Entities potentially affected by this action are owners or operators of wet-process phosphoric plant, each superphosphoric acid plant, each granular diammonium phosphate plant, and each triple superphosphate plant, having a design capacity of more than 15 tons of equivalent phosphorous pentoxide (P2O5) feed per calendar day.

Abstract: The New Source Performance Standards (NSPS) for Phosphate Fertilizer Industry (40 CFR Part 60, Subparts T, U, V, W, and X) were proposed on October 22, 1974, and promulgated on August 6, 1975.

The affected entities are subject to the General Provisions of NSPS at 40 CFR part 60, subpart A and any changes, or additions to the General Provisions specified at 40 CFR part 60, subparts T, U, V, W, and X.

Burden Statement: The annual public reporting and recordkeeping burden for this collection of information is estimated to average approximately 46 hours per response.

Respondents/Affected Entities: Phosphate fertilizer industry.

Estimated Number of Respondents: 13.

Frequency of Response: Initially and semiannually.

Estimated Total Annual Hour Burden: 1,194.

Estimated Total Annual Cost: $320,000 which is comprised of no annualized capital/startup costs and O&M costs of $320,000.

(4) NSPS for Steel Plants: Electric Arc Furnace and Argon Oxygen Decarbonization Vessels (40 CFR Part 60, Subparts AA and AAa); Docket ID Number EPA-HQ-OECA-2006-0448, EPA ICR Number 1060.14, OMB Control Number 2060-0038, and expiration date November 30, 2006.

Affected Entities: Entities potentially affected by this action are owners or operators of steel plants that produce carbon, alloy, or specialty steels.

Abstract: The New Source Performance Standards (NSPS) for Steel Plants: Electric Arc Furnace and Argon Oxygen Decarbonization Vessels (40 CFR Part 60, Subparts AA and AAa) were proposed on October 21, 1974, and promulgated on September 23, 1975, and proposed on August 17, 1983, and promulgated on October 31, 1984 respectively.

The affected entities are subject to the General Provisions of NESHAP at 40 CFR part 60, subpart A and any changes, or additions to the General Provisions specified at 40 CFR part 60, subparts AA and AAa.

Burden Statement: The annual public reporting and recordkeeping burden for this collection of information is estimated to average approximately 315 hours per response.

Respondents/Affected Entities: Plants with electric arc furnaces, AOD vessels, and dust handling systems that produce carbon, alloy, or specialty steels.

Estimated Number of Respondents: 95.

Frequency of Response: Initially and semiannually.

Estimated Total Annual Hour Burden: 60,400.

Estimated Total Annual Cost: $290,000 which is comprised of annualized capital/startup costs of $4,000 and O&M costs of $286,000.

(5) NSPS for Industrial/Commercial/Institutional Steam Generating Units (40 CFR Part 60, Subpart Db), Docket ID Number EPA-HQ-OECA-2006-0425, EPA ICR Number 1088.11, and OMB Control Number 2060-0072 and expiration date November 30, 2006.

Affected Entities: Entities potentially affected by this action are steam generating units with a heat capacity input greater than 29 MW (100 mmBTU/hour).

Abstract: This standard applies to owners or operators of steam generating units that commenced construction, modification, or reconstruction after June 19, 1984, and have a heat capacity input greater than 29 MW (100 mmBTU/hour). The affected entities are subject to the General Provisions of the New Source Performance Standards (NSPS) at 40 CFR part 60, subpart A and any changes, or additions to the General Provisions specified at 40 CFR part 60, subpart Da.

Burden Statement: The annual public reporting and recordkeeping burden for this collection of information is estimated to average 200 hours per response.

Respondents/Affected Entities: Steam Generating Units with a heat input capacity greater than 29 MW (100 mmBTU/hour).

Estimated Number of Respondents: 1,230.

Frequency of Response: Quarterly and semiannually.

Estimated Total Annual Hour Burden: 591,389.

Estimated Total Annual Cost: $26,775,000 which is comprised of annualized capital/startup costs of $9,000,000 and O&M costs of $17,775,000.

(6) NSPS for Fossil Fuel Fired Steam Generating Units (40 CFR Part 60, Subpart D), Docket ID Number EPA-HQ-OECA-2006-0426, EPA ICR Number 1052.08, and OMB Control Number 2060-0026 and expiration date November 30, 2006.

Affected Entities: Entities potentially affected by this action are fossil fuel fired steam generating units greater than 73 MW (250 mmBTU/hour).

Abstract: This standard applies to owners or operators of fossil fuel fired steam generating units that commenced construction, modification, or reconstruction after August 17, 1971, and have a heat capacity input greater than 73 MW (250 mmBTU/hour). The affected entities are subject to the General Provisions of the New Source Performance Standards (NSPS) at 40 CFR part 60, subpart A and any changes, or additions to the General Provisions specified at 40 CFR part 60, subpart D.

Burden Statement: The annual public reporting and recordkeeping burden for this collection of information is estimated to average 47 hours per response.

Respondents/Affected Entities: Fossil fuel fired steam generating units greater than 73 MW (250 mmBTU/hour).

Estimated Number of Respondents: 660

Frequency of Response: Semiannual.

Estimated Total Annual Hour Burden: 61,545

Estimated Total Annual Cost: $9,900,000 which is comprised of annualized capital/startup costs of $9,900,000 and no O&M costs.

(7) NSPS for Surfacing Coating of Plastic Parts for Business Machines (40 CFR Part 60, Subpart TTT), Docket ID Number EPA-HQ-OECA-2006-0417, EPA ICR Number 1093.08, OMB Control Number 2060-0162, expiration date November 30, 2006.

Affected Entities: Entities potentially affected by this action are business machine manufacturers.

Abstract: The New Source Performance Standards (NSPS) for business machine manufacturing industry were promulgated on January 29, 1988.

The affected entities are subject to the General Provisions of the New Source Performance Standards (NSPS) at 40 CFR part 60, subpart A and any changes, or additions to the General Provisions specified at 40 CFR part 60, subpart TTT.

Burden Statement: The annual public reporting and recordkeeping burden for this collection of information is estimated to average 35 hours per response.

Respondents/Affected Entities: Business machine manufacturers

Estimated Number of Respondents: 28.

Frequency of Response: Initially, quarterly and semiannually.

Estimated Total Annual Hour Burden: 978

Estimated Total Annual Cost: There are no annualized capital/startup or O&M costs associated with this ICR.

(8) Federal Emission Guidelines for Existing Municipal Solid Waste Landfills (40 CFR Part 62, Subpart GGG), Docket ID Number EPA-HQ-OECA-2006-0440, EPA ICR Number 1893.04, OMB Control Number 2060-0430, and expiration date November 30, 2006.

Affected Entities: Entities potentially affected by this action are owners or operators of existing landfills that handle everyday household waste and were in operation from November 8, 1987 to May 30, 1991, or had capacity available for future waste disposition.

Abstract: The Federal Emission Guidelines for Existing Municipal Solid Waste Landfills (40 CFR Part 62, Subpart GGG) were promulgated on November 8, 1999.

The affected entities are subject to the General Provisions of NSPS at 40 CFR part 62, subpart A and any changes, or additions to the General Provisions specified at 40 CFR part 62, subpart GGG.

Burden Statement: The annual public reporting and recordkeeping burden for this collection of information is estimated to average approximately 68 hours per response.

Respondents/Affected Entities: Existing municipal solid waste landfills

Estimated Number of Respondents: 173.

Frequency of Response: Monthly, quarterly and annually.

Estimated Total Annual Hour Burden: 11,678.

Estimated Total Annual Cost: $242,000 which is comprised of no annualized capital/startup costs and O&M costs of $242,000.

(9) NSPS for Nonmetallic Mineral Processing, Docket ID Number EPA-HQ-OECA-2006-0427, EPA ICR Number 1084.08, and OMB Control Number 2060-0050 and expiration date November 30. 2006.

Affected Entities: Entities potentially affected by this action are nonmetallic mineral processing plants.

Abstract: This standard applies to owners or operators of new, modified, or reconstructed facilities at nonmetallic mineral processing plants that commenced construction, modification, or reconstruction after August 1, 1985. The affected entities are subject to the General Provisions of the New Source Performance Standards (NSPS) at 40 CFR part 60, subpart A and any changes, or additions to the General Provisions specified at 40 CFR part 60, subpart OOO.

Burden Statement: The annual public reporting and recordkeeping burden for this collection of information is estimated to average 5.6 hours per response.

Respondents/Affected Entities: Nonmetallic mineral processing plants.

Estimated Number of Respondents: 3,825.

Frequency of Response: Initial.

Estimated Total Annual Hour Burden: 31,026.

Estimated Total Annual Cost: There are no annualized capital/startup or O&M costs associated with this standard.

(10) NSPS for Secondary Lead Smelters (40 CFR Part 60, Subpart L), Docket ID Number EPA-HQ-OECA-2006-0413, EPA ICR Number 1128.08, OMB Control Number 2060-0080, expiration date November 30, 2006.

Affected Entities: Entities potentially affected by this action are secondary lead smelters.

Abstract: The New Source Performance Standards (NSPS) for the secondary lead smelter industry were promulgated on July 25, 1977.

The affected entities are subject to the General Provisions of the New Source Performance Standards (NSPS) at 40 CFR part 60, subpart A and any changes, or additions to the General Provisions specified at 40 CFR part 60, subpart L.

Burden Statement: The annual public reporting and recordkeeping burden for this collection of information is estimated to average 1.5 hours per response.

Respondents/Affected Entities: Secondary lead smelters.

Estimated Number of Respondents: 25.

Frequency of Response: Initially, on occasion and semiannually.

Estimated Total Annual Hour Burden: 38.

Estimated Total Annual Cost: There are no annualized capital or O&M costs associated with this ICR.

(11) NESHAP Site Remediation (40 CFR Part 63, Subpart GGGGG), Docket ID Number EPA-HQ-OECA-2006-0445, EPA ICR Number 2062.03, OMB Control Number 2060-0534, and expiration date December 31, 2006.

Affected Entities: Entities potentially affected by this action are owners or operators of a site remediation activity.

Abstract: The National Emission Standards for Hazardous Air Pollutants (NESHAP) for Site Remediation (40 CFR Part 63, Subpart GGGGG) were promulgated on October 8, 2003.

The affected entities are subject to the General Provisions of NESHAP at 40 CFR part 63, subpart A and any changes, or additions to the General Provisions specified at 40 CFR part 63, subpart GGGGG.

Burden Statement: The annual public reporting and recordkeeping burden for this collection of information is estimated to average approximately 149 hours per response.

Respondents/Affected Entities: Site Remediation.

Estimated Number of Respondents: 286.

Frequency of Response: Initially, on occasion, monthly and semiannually.

Estimated Total Annual Hour Burden: 341,737.

Estimated Total Annual Cost: $2,522,000 which is comprised of annualized capital/startup costs of $1,239,000 and O&M costs of $1,283,000.

(12) NESHAP for the Secondary Lead Industry (40 CFR Part 63, Subpart X), Docket ID Number EPA-HQ-OECA-2006-0450, EPA ICR Number 1686.06, OMB Control Number 2060-0296, and expiration date December 31, 2006.

Affected Entities: Entities potentially affected by this action are owners or operators of secondary lead smelters.

Abstract: The National Emission Standards for Hazardous Air Pollutants (NESHAP) for Secondary Lead Industry (40 CFR Part 63, Subpart X) were proposed on June 9, 1994, and promulgated on June 23, 1995.

The affected entities are subject to the General Provisions of NSPS at 40 CFR part 63, subpart A and any changes, or additions to the General Provisions specified at 40 CFR part 63, subpart X.

Burden Statement: The annual public reporting and recordkeeping burden for this collection of information is estimated to average approximately 229 hours per response.

Respondents/Affected Entities: Owners or operators of secondary lead smelters.

Estimated Number of Respondents: 23.

Frequency of Response: Initially and semiannually.

Estimated Total Annual Hour Burden: 16,034.

Estimated Total Annual Cost: $150,000 which is comprised of no annualized capital/startup costs and O&M costs of $150,000.

(13) NESHAP for Mercury Cell Chlor-Alkali Plants (40 CFR Part 63, Subpart IIIII), Docket ID Number EPA-HQ-OECA-2006-0421, EPA ICR Number 2046.03, OMB Control Number 2060-0542, expiration date January 31, 2007.

Affected Entities: Entities potentially affected by this action are Mercury cell chlor-alkali plants.

Abstract: The New Source Performance Standards (NSPS) for mercury cell chlor-alkali industry were promulgated on December 19, 2003.

The affected entities are subject to the General Provisions of the National Emission Standards for Hazardous Air Pollutants (NESHAP) at 40 CFR part 63, subpart A and any changes, or additions to the General Provisions specified at 40 CFR part 63, subpart IIIII.

Burden Statement: The annual public reporting and recordkeeping burden for this collection of information is estimated to average 248 hours per response.

Respondents/Affected Entities: mercury cell chlor-alkali plants.

Estimated Number of Respondents: 9.

Frequency of Response: On occasion and semiannually.

Estimated Total Annual Hour Burden: 2,231

Estimated Total Annual Cost: $209,000, which is comprised of annualized capital/startup costs of $87,000 and O&M costs of $122,000.

(14) NESHAP for Iron and Steel Foundries (40 CFR Part 63, Subpart EEEEE), Docket ID Number EPA-HQ-OECA-2006-0447, EPA ICR Number 2096.03, OMB Control Number 2060-0543, and expiration date January 31, 2007.

Affected Entities: Entities potentially affected by this action are owners or operators of iron and steel foundries.

Abstract: The National Emission Standards for Hazardous Air Pollutants (NESHAP) for Iron and Steel Foundries (40 CFR Part 63, Subpart EEEEE) were promulgated on May 20, 2005.

The affected entities are subject to the General Provisions of NSPS at 40 CFR part 63, subpart A and any changes, or additions to the General Provisions specified at 40 CFR part 63, subpart EEEEE.

Burden Statement: The annual public reporting and recordkeeping burden for this collection of information is estimated to average approximately 343 hours per response.

Respondents/Affected Entities: Owners or operators of iron and steel foundries.

Estimated Number of Respondents: 33.

Frequency of Response: Semiannual.

Estimated Total Annual Hour Burden: 22,325

Estimated Total Annual Cost: $272,000 which is comprised of annualized capital/startup costs of $139,000 and O&M costs of $133,000.

(15) NESHAP for Lime Manufacturing (40 CFR Part 63, Subpart AAAAA); EPA-HQ-OECA-2006-0431; EPA ICR Number 2072.03; OMB Control Number 2060-0544; expiration date January 31, 2007.

Affected Entities: Entities potentially affected by this action are owners or operators of new or existing lime manufacturing plants.

Abstract: The National Emission Standards for Hazardous Air Pollutants (NESHAP) for Lime Manufacturing were promulgated on January 5, 2004. The affected entities are subject to the General Provisions of the National Emission Standards for Hazardous Air Pollutants (NESHAP) at 40 CFR part 63, subpart A and any changes, or additions to the General Provisions specified at 40 CFR part 63, subpart AAAAA.

Burden Statement: The annual public reporting and recordkeeping burden for this collection of information is estimated to average 45 hours per response.

Respondents/Affected Entities: Owners and operators of lime manufacturing plants.

Estimated Number of Respondents: 19.

Frequency of Response: Initially, on occasion and semiannually.

Estimated Total Annual Hour Burden: 7,766.

Estimated Total Annual Cost: $377,000 which is comprised of annualized capital/startup costs of $171,000 and O&M costs of $206,000.

(16) NESHAP for Primary Magnesium Refining (40 CFR Part 63, Subpart TTTTT); EPA-HQ-OECA-2006-0432; EPA ICR Number 2098.03, OMB Control Number 2060-0536; expiration date January 31, 2007.

Affected Entities: Entities potentially affected by this action are owners or operators of primary magnesium refining plants.

Abstract: The National Emission Standards for Hazardous Air Pollutants (NESHAP) for Primary Magnesium Refining were promulgated on October 10, 2003. The affected entities are subject to the General Provisions of the National Emission Standards for Hazardous Air Pollutants (NESHAP) at 40 CFR part 63, subpart A and any changes, or additions to the General Provisions specified at 40 CFR part 63, subpart TTTTT.

Burden Statement: The annual public reporting and recordkeeping burden for this collection of information is estimated to average 122 hours per response.

Respondents/Affected Entities: Owners and operators of primary magnesium refining plants.

Estimated Number of Respondents: 1.

Frequency of Response: Initially, on occasion and semiannually.

Estimated Total Annual Hour Burden: 731.

Estimated Total Annual Cost: There are no annualized capital/startup or O&M costs associated with this ICR.

(17) NESHAP for Plastic Parts and Products Surface Coating (40 CFR Part 63, Subpart PPPP); EPA-HQ-OECA-2006-0433; EPA ICR Number 2044.03; OMB Control Number 2060-0537; expiration date January 31, 2007.

Affected Entities: Entities potentially affected by this action are plastic parts and products surface coating operations.

Abstract: The National Emission Standards for Hazardous Air Pollutants (NESHAP) for Plastic Parts and Products Surface Coating were promulgated on April 19, 2004. The affected entities are subject to the General Provisions of the National Emission Standards for Hazardous Air Pollutants (NESHAP) at 40 CFR part 63, subpart A and any changes, or additions to the General Provisions specified at 40 CFR part 63, subpart PPPP.

Burden Statement: The annual public reporting and recordkeeping burden for this collection of information is estimated to average 210 hours per response.

Respondents/Affected Entities: Owners and operators of plastic parts and products surface coating operations.

Estimated Number of Respondents: 203.

Frequency of Response: Initially, on occasion and semiannually.

Estimated Total Annual Hour Burden: 42,553.

Estimated Total Annual Cost: $45,000 which is comprised of annualized capital/startup costs of $44,000 and O&M costs of $1,0000.

(18) NESHAP for Taconite Iron Ore Processing (40 CFR Part 63, Subpart RRRRR); EPA-HQ-OECA-2006-0430; EPA ICR Number 2050.03; OMB Control Number 2060-0538; expiration date January 31, 2007.

Affected Entities: Entities potentially affected by this action are owners and operators of taconite iron ore processing plants.

Abstract: The National Emission Standards for Hazardous Air Pollutants (NESHAP) for Taconite Iron Ore Processing were promulgated on October 30, 2003. The affected entities are subject to the General Provisions of the National Emission Standards for Hazardous Air Pollutants (NESHAP) at 40 CFR part 63, subpart A and any changes, or additions to the General Provisions specified at 40 CFR part 63, subpart RRRRR.

Burden Statement: The annual public reporting and recordkeeping burden for this collection of information is estimated to average 159 hours per response.

Respondents/Affected Entities: Owners and operators of taconite iron ore processing plants.

Estimated Number of Respondents: 8.

Frequency of Response: Initially, on occasion and semiannually.

Estimated Total Annual Hour Burden: 1,272.

Estimated Total Annual Cost: $510,000 which is comprised of annualized capital/startup costs of $393,000 and O&M costs of $117,000.

(19) NESHAP for Printing and Publishing Industry (40 CFR Part 63, Subpart KK), Docket ID Number EPA-HQ-OECA-2006-0438, EPA ICR Number 1739.05, OMB Control Number 2060-0335, and expiration date January 31, 2007.

Affected Entities: Entities potentially affected by this action are owners or operators of the printing and publishing industry.

Abstract: The National Emission Standards for Hazardous Air Pollutants (NESHAP) for Printing and Publishing Industry (40 CFR Part 63, Subpart KK) were proposed on March 14, 1995, and promulgated on May 30, 1996.

The affected entities are subject to the General Provisions of NESHAP at 40 CFR part 63, subpart A and any changes, or additions to the General Provisions specified at 40 CFR part 63, subpart KK.

Burden Statement: The annual public reporting and recordkeeping burden for this collection of information is estimated to average approximately 100 hours per response.

Respondents/Affected Entities: Owners and Operators of the printing and publishing industry.

Estimated Number of Respondents: 352.

Frequency of Response: Initially, on occasion and semiannually.

Estimated Total Annual Hour Burden: 50,796.

Estimated Total Annual Cost: $412,000 which is comprised of annualized capital/startup costs of $7,000 and O&M costs of $405,000.

(20) NSPS for Ammonium Sulfate Manufacturing Plants (40 CFR Part 60, Subpart PP), Docket ID Number EPA-HQ-OECA-2006-0412, EPA ICR Number 1066.06, OMB Control Number 2060-0032, expiration date February 28, 2007.

Affected Entities: Entities potentially affected by this action are ammonium sulfate manufacturing plants.

Abstract: The New Source Performance Standards (NSPS) for ammonium sulfate manufacturing industry were promulgated on November 12, 1980.

The affected entities are subject to the General Provisions of the New Source Performance Standards (NSPS) at 40 CFR part 60, subpart A and any changes, or additions to the General Provisions specified at 40 CFR part 60, subpart PP.

Burden Statement: The annual public reporting and recordkeeping burden for this collection of information is estimated to average 91 hours per response.

Respondents/Affected Entities: Ammonium sulfate manufacturing plants

Estimated Number of Respondents: 2.

Frequency of Response: Initially and semiannually.

Estimated Total Annual Hour Burden: 181.

Estimated Total Annual Cost: There are no annualized capital or O&M costs associated with this ICR.

(21) NSPS for Pressure Sensitive Tape and Label Surface Coating Operations (40 CFR Part 60, Subpart RR), Docket ID Number EPA-HQ-OECA-2006-0414, EPA ICR Number 0658.09, OMB Control Number 2060-0004, expiration date February 28, 2007.

Affected Entities: Entities potentially affected by this action are pressure sensitive tape and label surface coating operations.

Abstract: The New Source Performance Standards (NSPS) for the pressure sensitive tape and label surface coating industry were promulgated on October 18, 1983.

The affected entities are subject to the General Provisions of the New Source Performance Standards (NSPS) at 40 CFR part 60, subpart A and any changes, or additions to the General Provisions specified at 40 CFR part 60, subpart RR.

Burden Statement: The annual public reporting and recordkeeping burden for this collection of information is estimated to average 35 hours per response.

Respondents/Affected Entities: Pressure sensitive tape and label surface coating operations

Estimated Number of Respondents: 37.

Frequency of Response: Initially, on occasion, quarterly and semiannually.

Estimated Total Annual Hour Burden: 3,179.

Estimated Total Annual Cost: $72,000, which is comprised of annualized capital/startup costs of $7,000 and O&M costs of $65,000.

(22) NSPS for Automobile and Light Duty Truck Surface Coating Operations (40 CFR Part 60, Subpart MM), Docket ID Number EPA-HQ-OECA-2006-0416, EPA ICR Number 1064.11, OMB Control Number 2060-0034, expiration date February 28, 2007.

Affected Entities: Entities potentially affected by this action are automobile and light duty truck surface coating operations.

Abstract: The New Source Performance Standards (NSPS) for the automobile and light duty truck surface coating industry were promulgated on December 24, 1980.

The affected entities are subject to the General Provisions of the New Source Performance Standards (NSPS) at 40 CFR part 60, subpart A and any changes, or additions to the General Provisions specified at 40 CFR part 60, subpart MM.

Burden Statement: The annual public reporting and recordkeeping burden for this collection of information is estimated to average 745 hours per response.

Respondents/Affected Entities: Automobile and light duty truck surface coating operations

Estimated Number of Respondents: 210.

Frequency of Response: Initially and quarterly.

Estimated Total Annual Hour Burden: 156,362.

Estimated Total Annual Cost: $93,000, which is comprised of annualized capital/startup costs of $2,000 and O&M costs of $91,000.

(23) NSPS for Flexible Vinyl and Urethane Coating and Printing (40 CFR Part 60, Subpart FFF), Docket ID Number EPA-HQ-OECA-2006-0411, EPA ICR Number 1157.08, OMB Control Number 2060-0073, expiration date February 28, 2007.

Affected Entities: Entities potentially affected by this action are flexible vinyl and urethane coating and printing operations.

Abstract: The New Source Performance Standards (NSPS) for the flexible vinyl and urethane coating and printing industry were promulgated on June 29, 1984.

The affected entities are subject to the General Provisions of the New Source Performance Standards (NSPS) at 40 CFR part 60, subpart A and any changes, or additions to the General Provisions specified at 40 CFR part 60, subpart FFF.

Burden Statement: The annual public reporting and recordkeeping burden for this collection of information is estimated to average 14 hours per response.

Respondents/Affected Entities: Flexible Vinyl and Urethane Coating and Printing operations.

Estimated Number of Respondents: 41.

Frequency of Response: Initially and semiannually.

Estimated Total Annual Hour Burden: 593.

Estimated Total Annual Cost: $61,000, which is comprised of annualized capital/startup costs of $7,000 and O&M costs of $54,000.

(24) NSPS for Lead Acid Battery Manufacturing (40 CFR Part 60, Subpart KK), Docket ID Number EPA-HQ-OECA-2006-0415, EPA ICR Number 1072.08, OMB Control Number 2060-0081, expiration date March 31, 2007.

Affected Entities: Entities potentially affected by this action are lead acid battery manufacturers.

Abstract: The New Source Performance Standards (NSPS) for the lead acid battery manufacturing industry were promulgated on June 29, 1984.

The affected entities are subject to the General Provisions of the New Source Performance Standards (NSPS) at 40 CFR part 60, subpart A and any changes, or additions to the General Provisions specified at 40 CFR part 60, subpart KK.

Burden Statement: The annual public reporting and recordkeeping burden for this collection of information is estimated to average 62 hours per response.

Respondents/Affected Entities: Lead acid battery manufacturers.

Estimated Number of Respondents: 52.

Frequency of Response: Initial.

Estimated Total Annual Hour Burden: 4,053.

Estimated Total Annual Cost: $12,000, which is comprised of no annualized capital/startup costs and O&M costs of $12,000.

(25) NSPS for Storage Vessels for Petroleum Liquids for Which Construction, Reconstruction or Modification Commenced After June 11, 1973 prior to July 23, 1984 (40 CFR Part 60, Subpart Ka), Docket ID Number EPA-HQ-OECA-2006-0449, EPA ICR Number 1797.04, OMB Control Number 2060-0442, and expiration date March 31, 2007.

Affected Entities: Entities potentially affected by this action are owners or operators of storage vessels for petroleum liquids for which construction, reconstruction or modification commended after June 11, 1973 prior to July 23, 1984.

Abstract: The New Source Performance Standards (NSPS) for Storage Vessels for Petroleum Liquids for Which Construction, Reconstruction or Modification Commenced After June 11, 1973 prior to July 23, 1984 (40 CFR Part 60, Subpart Ka), were promulgated on March 8, 1974.

The affected entities are subject to the General Provisions of NSPS at 40 CFR part 60, subpart A and any changes, or additions to the General Provisions specified at 40 CFR part 60, subpart Ka.

Burden Statement: The annual public reporting and recordkeeping burden for this collection of information is estimated to average approximately 3 hours per response.

Respondents/Affected Entities: Owners or operators of facilities that store petroleum liquids for which construction, reconstruction or modification commenced after June 11, 1973, and prior to July 23, 1984.

Estimated Number of Respondents: 220.

Frequency of Response: On occasion.

Estimated Total Annual Hour Burden: 669.

Estimated Total Annual Cost: $43,000 which is comprised of no annualized capital/startup costs and O&M costs of $43,000.

(26) NSPS for Commercial and Industrial Solid Waste Incineration Units (40 CFR Part 60, Subpart CCCC), Docket ID Number EPA-HQ-OECA-2006-0442, EPA ICR Number 1926.04, OMB Control Number 2060-0450, and expiration date March 31, 2007.

Affected Entities: Entities potentially affected by this action are owners or operators of commercial and industrial solid waste incineration units.

Abstract: The New Source Performance Standards (NSPS) for Commercial and Industrial Solid Waste Incineration Units (40 CFR Part 60, Subpart CCCC) were proposed on November 30, 1999, and promulgated on December 1, 2000.

The affected entities are subject to the General Provisions of NSPS at 40 CFR part 60, subpart A and any changes, or additions to the General Provisions specified at 40 CFR part 60, subpart CCCC.

Burden Statement: The annual public reporting and recordkeeping burden for this collection of information is estimated to average approximately 325 hours per response.

Respondents/Affected Entities: Commercial and industrial solid waste incineration units

Estimated Number of Respondents: 30.

Frequency of Response: Initially, annually, and semiannually.

Estimated Total Annual Hour Burden: 16,899.

Estimated Total Annual Cost: $18,000 which is comprised of annualized capital/startup costs of $13,000 and O&M costs of $5,000.

(27) NESHAP for Miscellaneous Coating Manufacturing (40 CFR Part 63, Subpart EEEE), Docket ID Number EPA-HQ-OECA-2006-0418, EPA ICR Number 2115.02, OMB Control Number 2060-0535, expiration date April 30, 2007.

Affected Entities: Entities potentially affected by this action are miscellaneous coating manufacturers.

Abstract: The New Source Performance Standards (NSPS) for the miscellaneous coating manufacturing industry were promulgated on December 11, 2003.

The affected entities are subject to the General Provisions of the National Emission Standards for Hazardous Air Pollutants (NESHAP) at 40 CFR part 63, subpart A and any changes, or additions to the General Provisions specified at 40 CFR part 60, subpart HHHHH.

Burden Statement: The annual public reporting and recordkeeping burden for this collection of information is estimated to average 84 hours per response.

Respondents/Affected Entities: Miscellaneous coating manufacturers.

Estimated Number of Respondents: 121.

Frequency of Response: Initially and semiannually.

Estimated Total Annual Hour Burden: 10,139.

Estimated Total Annual Cost: $44,000, which is comprised of annualized capital/startup costs of $10,000 and O&M costs of $34,000.

(28) NESHAP for Organic Liquids Distribution (40 CFR Part 63, Subpart EEEE); EPA ICR Number 1963.03; OMB Control Number 2060-0539; expiration date April 30, 2007.

Affected Entities: Owners or operators of organic liquids distribution operations that are located at, or are part of, major sources of hazardous air pollutant emissions.

Abstract: The National Emissions Standards for Hazardous Air Pollutants (NESHAP) for Liquids Distribution (40 CFR Part 63, Subpart EEEE) were promulgated on February 3, 2004.

The affected entities are subject to the General Provisions of NESHAP at 40 CFR part 63, subpart A and any changes, or additions to the General Provisions specified at 40 CFR part 63, subpart EEEE.

Burden Statement: The annual public reporting and recordkeeping burden for this collection of information is estimated to average approximately 197 hours per response.

Respondents/Affected Entities: Owners or operators of organic liquids distribution operations that are located at, or are part of, major sources of hazardous air pollutant emissions.

Estimated Number of Respondents: 381.

Frequency of Response: Initially and semiannually.

Estimated Total Annual Hour Burden: 137,170.

Estimated Total Annual Cost: $1,800,000 which is comprised of annualized capital/startup cost of $264,000 and O&M costs of $1,536,000.

(29) Emission Guidelines for Commercial and Industrial Solid Waste Incineration Units (40 CFR Part 60, Subpart DDDD), Docket ID Number EPA-HQ-OECA-2006-0444, EPA ICR Number 1927.04, OMB Control Number 2060-0451, and expiration date April 30, 2007.

Affected Entities: Entities potentially affected by this action are emission guidelines for commercial and industrial solid waste incineration units.

Abstract: The New Source Performance Standards (NSPS) for Emission Guidelines for Commercial and Industrial Solid Waste Incineration Units (40 CFR Part 60, Subpart DDDD) were promulgated on December 1, 2000.

The affected entities are subject to the General Provisions of NSPS at 40 CFR part 60, subpart A and any changes, or additions to the General Provisions specified at 40 CFR part 60, subpart DDDD.

Burden Statement: The annual public reporting and recordkeeping burden for this collection of information is estimated to average approximately 262 hours per response.

Respondents/Affected Entities: Owners or operators of commercial and industrial solid waste incineration units.

Estimated Number of Respondents: 97.

Frequency of Response: Initially, annually and semiannually.

Estimated Total Annual Hour Burden: 72,423.

Estimated Total Annual Cost: $99,000 which is comprised of annualized capital/startup costs of $87,000 and O&M costs of $12,000.

(30) NESHAP for Halogenated Solvent Cleaners/Halogenated Hazardous Air Pollutants (40 CFR Part 63, Subpart T), Docket ID Number EPA-HQ-OECA-2006-0443, EPA ICR Number 1652.06, OMB Control Number 2060-0273, and expiration date April 30, 2007.

Affected Entities: Entities potentially affected by this action are owners or operators of halogenated solvent cleaners.

Abstract: The National Emission Standards for Hazardous Air Pollutants (NESHAP) for Halogenated Solvent Cleaners/Halogenated Hazardous Air Pollutants (40 CFR Part 63, Subpart T) were promulgated on December 2, 1994.

The affected entities are subject to the General Provisions of NESHAP at 40 CFR part 63, subpart A and any changes, or additions to the General Provisions specified at 40 CFR part 63, subpart T.

Burden Statement: The annual public reporting and recordkeeping burden for this collection of information is estimated to average approximately 14 hours per response.

Respondents/Affected Entities: Owners or operators of halogenated solvent cleaners.

Estimated Number of Respondents: 1,431.

Frequency of Response: Quarterly, semiannually, and initially.

Estimated Total Annual Hour Burden: 41,035.

Estimated Total Annual Cost: $1,015,000 which is comprised of no annualized capital/startup costs and O&M costs of $1,015,000.

(31) NSPS for Nitric Acid Plants (40 CFR Part 60, Subpart G), Docket ID Number EPA-HQ-OECA-2006-0437, EPA ICR Number 1056.09, OMB Control Number 2060-0019, and expiration date April 30, 2007.

Affected Entities: Entities potentially affected by this action are owners or operators of nitric acid plants.

Abstract: The New Source Performance Standards (NSPS) for Nitric Acid Plants (40 CFR Part 60, Subpart G) were proposed on August 17, 1971, and promulgated on June 14, 1974.

The affected entities are subject to the General Provisions of NSPS at 40 CFR part 60, subpart A and any changes, or additions to the General Provisions specified at 40 CFR part 60, subpart G.

Burden Statement: The annual public reporting and recordkeeping burden for this collection of information is estimated to average approximately 25 hours per response.

Respondents/Affected Entities: Owners or operators of nitric acid plants.

Estimated Number of Respondents: 24.

Frequency of Response: Initially and semiannually.

Estimated Total Annual Hour Burden: 1,290.

Estimated Total Annual Cost: $2,468,000 which is comprised of annualized capital/startup costs of $68,000 and O&M costs of $2,400,000.

EPA will consider any comments received and may amend any of the above ICRs, as appropriate. Then the final ICR packages will be submitted to OMB for review and approval pursuant to 5 CFR 1320.12. At that time, EPA will issue one or more Federal Register notices pursuant to 5 CFR 1320.5(a)(1)(iv) to announce the submission of the ICR(s) to OMB and the opportunity to submit additional comments to OMB. If you have any questions about any of the above ICRs or the approval process, please contact the person listed under FOR FURTHER INFORMATION CONTACT.

Dated: June 12, 2006.
Michael M. Stahl,
Director, Office of Compliance.

[FR Doc. 06-5533 Filed 6-20-06; 8:45 am]

BILLING CODE 6560-50-P